DEPARTMENT OF HEALTH AND HUMAN SERVICES

Centers for Disease Control and Prevention

Disease, Disability, and Injury Prevention and Control Special Emphasis Panel: Preparedness and Emergency Response Research Centers: A Public Health System Approach, Program Announcement Number, TP 08-001

Correction: This notice was published in the Federal Register on May 22, 2008, Volume 73, Number 100, page 29759. The aforementioned meeting will now convene as follows:

Panel 1

7 p.m.-9:30 p.m., July 7, 2008 (Closed).

8 a.m.-5:30 p.m., July 8, 2008 (Closed).

8:30 a.m.-5:30 p.m., July 9, 2008 (Closed).

Panel 2

7 p.m.-9:30 p.m., July 9, 2008 (Closed).

8:30 a.m.-5:30 p.m., July 10, 2008 (Closed).

8:30 a.m.-5:30 p.m., July 11, 2008 (Closed).

Contact Person for More Information: Charles Rafferty, PhD, Senior Scientific Reviewer Officer, Office of Science and Public Health Practice, Coordinating Office for Terrorism Preparedness and Emergency Response, CDC, 1600 Clifton Road, NE., Mailstop D44, Atlanta, GA 30333, Telephone (404) 639-7495.

The Director, Management Analysis and Services Office, has been delegated the authority to sign Federal Register notices pertaining to announcements of meetings and other committee management activities, for both CDC and the Agency for Toxic Substances and Disease Registry.

Dated: June 6, 2008.
Elaine L. Baker,
Director, Management Analysis and Services Office, Centers for Disease Control and Prevention.

[FR Doc. E8-13178 Filed 6-11-08; 8:45 am]

BILLING CODE 4163-18-P